DEPARTMENT OF ENERGY

Federal Energy Regulatory Commission

18 CFR Part 11

[Docket No. RM11-6-000]

Annual Update to Fee Schedule for the Use of Government Lands by Hydropower Licensees

AGENCY: Federal Energy Regulatory Commission, Energy.

ACTION: Final rule; annual update to fee schedule.

SUMMARY: In accordance with the Commission's regulations, the Commission, by its designee, the Executive Director, issues this notice of the annual update to the fee schedule in Appendix A to Part 11, which lists per-acre rental fees by county (or other geographic area) for use of government lands by hydropower licensees.

DATES: This rule is effective January 17, 2014 and updates Appendix A to Part 11 with the fee schedule of per-acre rental fees by county (or other geographic area) from October 1, 2013, through September 30, 2014 (Fiscal Year 2014).

FOR FURTHER INFORMATION CONTACT: Norman Richardson, Financial Management Division, Office of the Executive Director, Federal Energy Regulatory Commission, 888 First Street NE., Washington, DC 20426, (202) 502-6219, Norman.Richardson@ferc.gov.

SUPPLEMENTARY INFORMATION:

146 FERC ¶ 62,015

UNITED STATES OF AMERICA

Federal Energy Regulatory Commission

Annual Charges for the Use of Government Lands Docket No.RM11-6-000

Annual Update to Fee Schedule

Issued January 8, 2014.

Section 11.2 of the Commission's regulations provides a method for computing reasonable annual charges for recompensing the United States for the use, occupancy, and enjoyment of its lands by hydropower licensees.¹ Annual charges for the use of government lands are payable in advance, and are based on an annual schedule of per-acre rental fees published in Appendix A to Part 11 of the Commission's regulations.² This notice updates the fee schedule in Appendix A to Part 11 for fiscal year 2014 (October 1, 2013, through September 30, 2014).

¹ Annual Charges for the Use of Government Lands, Order No. 774, 78 FR 5256 (January 25, 2013), FERC Stats. & Regs. ¶ 31,341 (2013).

² 18 CFR Part 11 (2013).

Effective Date

This Final Rule is effective January 17, 2014. The provisions of 5 U.S.C. 804, regarding Congressional review of final rules, do not apply to this Final Rule because the rule concerns agency procedure and practice and will not substantially affect the rights or obligations of non-agency parties. This Final Rule merely updates the fee schedule published in the Code of Federal Regulations to reflect scheduled adjustments, as provided for in section 11.2 of the Commission's regulations.

List of Subjects in 18 CFR Part 11

Public lands.

By the Executive Director.
Anton C. Porter,
Executive Director, Office of the Executive Director.

In consideration of the foregoing, the Commission amends Appendix A to Part 11, Chapter I, Title 18, Code of Federal Regulations, as follows.

PART 11—[AMENDED]

1. The authority citation for part 11 continues to read as follows:

Authority: 16 U.S.C. 792-828c; 42 U.S.C. 7101-7352.

2. Appendix A to Part 11 is revised to read as follows:

Appendix A to Part 11—FEE Schedule for FY 2014

State | County | Fee/acre/yr
Alabama | Autauga | $54.07
| Baldwin | 90.82
| Barbour | 48.91
| Bibb | 62.32
| Blount | 88.90
| Bullock | 56.13
| Butler | 59.21
| Calhoun | 88.21
| Chambers | 50.24
| Cherokee | 60.43
| Chilton | 77.10
| Choctaw | 47.74
| Clarke | 45.57
| Clay | 65.10
| Cleburne | 85.43
| Coffee | 60.29
| Colbert | 59.93
| Conecuh | 50.93
| Coosa | 57.96
| Covington | 62.24
| Crenshaw | 59.18
| Cullman | 103.29
| Dale | 58.60
| Dallas | 45.80
| DeKalb | 96.15
| Elmore | 72.38
| Escambia | 58.52
| Etowah | 83.57
| Fayette | 47.21
| Franklin | 58.66
| Geneva | 57.38
| Greene | 42.94
| Hale | 50.80
| Henry | 50.43
| Houston | 59.02
| Jackson | 58.54
| Jefferson | 95.40
| Lamar | 39.58
| Lauderdale | 64.68
| Lawrence | 72.29
| Lee | 83.65
| Limestone | 73.85
| Lowndes | 45.30
| Macon | 52.27
| Madison | 74.35
| Marengo | 46.55
| Marion | 55.91
| Marshall | 102.95
| Mobile | 88.79
| Monroe | 49.77
| Montgomery | 54.10
| Morgan | 79.46
| Perry | 44.41
| Pickens | 52.10
| Pike | 60.21
| Randolph | 67.29
| Russell | 60.71
| St. Clair | 97.93
| Shelby | 103.04
| Sumter | 40.05
| Talladega | 64.57
| Tallapoosa | 68.76
| Tuscaloosa | 68.60
| Walker | 69.79
| Washington | 58.71
| Wilcox | 38.38
| Winston | 71.88
Alaska | Aleutian Islands Area** | 1.55
| Anchorage Area** | 87.03
| Fairbanks Area** | 19.12
| Juneau Area** | 1,341.85
| Kenai **Peninsula** | 32.66
| All Areas | 9.62
Arizona | Apache | 2.61
| Cochise | 25.61
| Coconino | 2.65
| Gila | 5.10
| Graham | 7.40
| Greenlee | 31.46
| La Paz | 14.57
| Maricopa | 114.11
| Mohave | 7.57
| Navajo | 3.71
| Pima | 5.99
| Pinal | 48.85
| Santa Cruz | 30.76
| Yavapai | 23.89
| Yuma | 112.27
Arkansas | Arkansas | 51.16
| Ashley | 56.21
| Baxter | 67.19
| Benton | 120.07
| Boone | 66.50
| Bradley | 70.67
| Calhoun | 53.34
| Carroll | 62.26
| Chicot | 43.27
| Clark | 51.14
| Clay | 54.67
| Cleburne | 69.32
| Cleveland | 86.79
| Columbia | 60.35
| Conway | 62.16
| Craighead | 59.89
| Crawford | 79.59
| Crittenden | 52.66
| Cross | 48.98
| Dallas | 41.63
| Desha | 46.75
| Drew | 48.10
| Faulkner | 74.56
| Franklin | 59.40
| Fulton | 43.59
| Garland | 89.73
| Grant | 70.35
| Greene | 61.16
| Hempstead | 51.46
| Hot Spring | 65.72
| Howard | 64.17
| Independence | 52.88
| Izard | 44.60
| Jackson | 49.55
| Jefferson | 51.80
| Johnson | 62.53
| Lafayette | 47.10
| Lawrence | 52.93
| Lee | 49.20
| Lincoln | 53.27
| Little River | 43.62
| Logan | 62.83
| Lonoke | 52.78
| Madison | 73.07
| Marion | 48.30
| Miller | 45.82
| Mississippi | 54.96
| Monroe | 49.15
| Montgomery | 70.37
| Nevada | 50.72
| Newton | 57.58
| Ouachita | 56.31
| Perry | 60.25
| Phillips | 44.30
| Pike | 56.38
| Poinsett | 54.91
| Polk | 71.79
| Pope | 70.94
| Prairie | 45.45
| Pulaski | 60.23
| Randolph | 47.73
| St. Francis | 49.69
| Saline | 76.33
| Scott | 61.06
| Searcy | 43.89
| Sebastian | 74.59
| Sevier | 59.35
| Sharp | 45.58
| Stone | 49.74
| Union | 83.75
| Van Buren | 60.13
| Washington | 101.22
| White | 60.87
| Woodruff | 49.37
| Yell | 61.04
California | Alameda | 29.96
| Alpine | 52.93
| Amador | 36.81
| Butte | 58.05
| Calaveras | 28.32
| Colusa | 30.74
| Contra Costa | 51.03
| Del Norte | 52.54
| El Dorado | 78.50
| Fresno | 61.24
| Glenn | 37.26
| Humboldt | 18.99
| Imperial | 40.87
| Inyo | 7.35
| Kern | 35.74
| Kings | 42.22
| Lake | 70.94
| Lassen | 10.69
| Los Angeles | 108.37
| Madera | 52.41
| Marin | 39.06
| Mariposa | 12.74
| Mendocino | 41.04
| Merced | 55.71
| Modoc | 11.27
| Mono | 23.86
| Monterey | 35.89
| Napa | 209.55
| Nevada | 56.64
| Orange | 93.45
| Placer | 78.71
| Plumas | 14.15
| Riverside | 121.80
| Sacramento | 51.93
| San Benito | 21.53
| San Bernardino | 24.47
| San Diego | 148.70
| San Francisco | 3,531.93
| San Joaquin | 78.56
| San Luis Obispo | 35.12
| San Mateo | 72.16
| Santa Barbara | 54.71
| Santa Clara | 44.19
| Santa Cruz | 173.24
| Shasta | 24.40
| Sierra | 20.16
| Siskiyou | 19.32
| Solano | 38.12
| Sonoma | 122.74
| Stanislaus | 73.21
| Sutter | 50.68
| Tehama | 24.60
| Trinity | 9.61
| Tulare | 63.86
| Tuolumne | 26.25
| Ventura | 176.02
| Yolo | 42.18
| Yuba | 45.82
Colorado | Adams | 22.43
| Alamosa | 29.88
| Arapahoe | 28.92
| Archuleta | 31.33
| Baca | 12.28
| Bent | 9.77
| Boulder | 60.17
| Broomfield* | 31.25
| Chaffee | 39.87
| Cheyenne | 12.18
| Clear Creek | 23.69
| Conejos | 23.58
| Costilla | 15.37
| Crowley | 9.53
| Custer | 30.95
| Delta | 54.61
| Denver* | 19.73
| Dolores | 19.92
| Douglas | 60.68
| Eagle | 21.56
| Elbert | 19.14
| El Paso | 25.20
| Fremont | 29.35
| Garfield | 34.16
| Gilpin | 24.14
| Grand | 28.54
| Gunnison | 33.76
| Hinsdale | 51.91
| Huerfano | 12.60
| Jackson | 18.41
| Jefferson | 64.22
| Kiowa | 10.24
| Kit Carson | 14.67
| Lake | 32.20
| La Plata | 26.12
| Larimer | 47.04
| Las Animas | 8.66
| Lincoln | 10.86
| Logan | 16.41
| Mesa | 62.90
| Mineral | 33.25
| Moffat | 13.62
| Montezuma | 17.37
| Montrose | 44.99
| Morgan | 20.62
| Otero | 11.30
| Ouray | 27.22
| Park | 16.09
| Phillips | 21.07
| Pitkin | 47.91
| Prowers | 13.01
| Pueblo | 12.64
| Rio Blanco | 18.11
| Rio Grande | 41.84
| Routt | 25.75
| Saguache | 24.63
| San Juan* | 19.73
| San Miguel | 27.12
| Sedgwick | 18.11
| Summit | 29.14
| Teller | 24.03
| Washington | 13.73
| Weld | 29.24
| Yuma | 19.71
Connecticut | Fairfield | 382.65
| Hartford | 386.50
| Litchfield | 333.13
| Middlesex | 454.72
| New Haven | 351.12
| New London | 314.75
| Tolland | 317.81
| Windham | 242.15
Delaware | Kent | 272.15
| New Castle | 326.06
| Sussex | 280.60
Florida | Alachua | 136.36
| Baker | 119.79
| Bay | 143.75
| Bradford | 129.27
| Brevard | 73.80
| Broward | 498.18
| Calhoun | 82.08
| Charlotte | 60.77
| Citrus | 143.69
| Clay | 98.92
| Collier | 112.01
| Columbia | 132.42
| DeSoto | 104.19
| Dixie | 69.33
| Duval | 166.13
| Escambia | 88.95
| Flagler | 74.60
| Franklin | 48.11
| Gadsden | 103.61
| Gilchrist | 126.05
| Glades | 98.47
| Gulf | 89.10
| Hamilton | 90.73
| Hardee | 114.33
| Hendry | 63.67
| Hernando | 183.53
| Highlands | 77.08
| Hillsborough | 191.05
| Holmes | 79.65
| Indian River | 98.34
| Jackson | 69.65
| Jefferson | 84.52
| Lafayette | 71.13
| Lake | 197.73
| Lee | 202.83
| Leon | 71.68
| Levy | 97.66
| Liberty | 34.85
| Madison | 85.46
| Manatee | 116.36
| Marion | 178.45
| Martin | 113.69
| Dade | 518.37
| Monroe | 494.79
| Nassau | 118.96
| Okaloosa | 101.43
| Okeechobee | 86.30
| Orange | 123.26
| Osceola | 47.96
| Palm Beach | 77.13
| Pasco | 144.22
| Pinellas | 462.43
| Polk | 133.94
| Putnam | 99.76
| St. Johns | 164.90
| St. Lucie | 115.31
| Santa Rosa | 108.41
| Sarasota | 143.22
| Seminole | 159.33
| Sumter | 108.43
| Suwannee | 115.87
| Taylor | 88.03
| Union | 86.32
| Volusia | 185.26
| Wakulla | 59.28
| Walton | 84.76
| Washington | 83.68
Georgia | Appling | 71.17
| Atkinson | 74.83
| Bacon | 71.44
| Baker | 67.46
| Baldwin | 64.01
| Banks | 169.26
| Barrow | 167.54
| Bartow | 122.11
| Ben Hill | 59.44
| Berrien | 74.23
| Bibb | 101.08
| Bleckley | 69.31
| Brantley | 72.35
| Brooks | 77.08
| Bryan | 51.37
| Bulloch | 70.55
| Burke | 65.63
| Butts | 95.37
| Calhoun | 53.47
| Camden | 47.55
| Candler | 72.75
| Carroll | 142.90
| Catoosa | 150.32
| Charlton | 56.99
| Chatham | 122.92
| Chattahoochee | 65.33
| Chattooga | 88.25
| Cherokee | 242.55
| Clarke | 131.52
| Clay | 67.21
| Clayton | 157.16
| Clinch | 72.67
| Cobb | 153.12
| Coffee | 67.16
| Colquitt | 78.35
| Columbia | 105.68
| Cook | 78.00
| Coweta | 99.36
| Crawford | 79.34
| Crisp | 60.41
| Dade | 85.45
| Dawson | 185.77
| Decatur | 71.52
| DeKalb | 274.56
| Dodge | 53.98
| Dooly | 56.21
| Dougherty | 68.94
| Douglas | 195.27
| Early | 64.50
| Echols | 87.14
| Effingham | 86.01
| Elbert | 93.01
| Emanuel | 58.45
| Evans | 65.14
| Fannin | 146.21
| Fayette | 179.91
| Floyd | 99.38
| Forsyth | 224.42
| Franklin | 173.43
| Fulton | 149.22
| Gilmer | 203.07
| Glascock | 57.85
| Glynn | 95.72
| Gordon | 144.62
| Grady | 80.39
| Greene | 106.72
| Gwinnett | 258.58
| Habersham | 187.98
| Hall | 199.73
| Hancock | 67.70
| Haralson | 110.71
| Harris | 89.65
| Hart | 153.95
| Heard | 111.49
| Henry | 161.11
| Houston | 99.30
| Irwin | 60.49
| Jackson | 166.25
| Jasper | 103.15
| Jeff Davis | 59.93
| Jefferson | 57.77
| Jenkins | 51.51
| Johnson | 52.91
| Jones | 95.72
| Lamar | 112.02
| Lanier | 63.80
| Laurens | 56.99
| Lee | 67.29
| Liberty | 54.65
| Lincoln | 78.99
| Long | 59.12
| Lowndes | 99.57
| Lumpkin | 176.14
| McDuffie | 76.63
| McIntosh | 63.02
| Macon | 75.96
| Madison | 135.67
| Marion | 67.51
| Meriwether | 97.82
| Miller | 71.73
| Mitchell | 70.33
| Monroe | 87.25
| Montgomery | 66.62
| Morgan | 138.76
| Murray | 108.15
| Muscogee | 87.44
| Newton | 115.39
| Oconee | 147.12
| Oglethorpe | 98.47
| Paulding | 177.76
| Peach | 100.54
| Pickens | 177.60
| Pierce | 76.79
| Pike | 112.21
| Polk | 114.07
| Pulaski | 71.30
| Putnam | 111.59
| Quitman | 68.75
| Rabun | 145.78
| Randolph | 57.72
| Richmond | 109.82
| Rockdale | 147.77
| Schley | 81.09
| Screven | 63.37
| Seminole | 61.22
| Spalding | 145.19
| Stephens | 137.41
| Stewart | 66.08
| Sumter | 62.96
| Talbot | 56.81
| Taliaferro | 70.44
| Tattnall | 74.93
| Taylor | 57.72
| Telfair | 60.79
| Terrell | 63.93
| Thomas | 73.29
| Tift | 69.45
| Toombs | 57.59
| Towns | 169.96
| Treutlen | 59.71
| Troup | 102.85
| Turner | 66.68
| Twiggs | 68.83
| Union | 159.79
| Upson | 85.34
| Walker | 115.68
| Walton | 156.97
| Ware | 82.17
| Warren | 67.27
| Washington | 59.63
| Wayne | 77.89
| Webster | 60.95
| Wheeler | 57.56
| White | 193.65
| Whitfield | 125.87
| Wilcox | 60.11
| Wilkes | 70.63
| Wilkinson | 59.98
| Worth | 65.17
Hawaii | Hawaii | 146.24
| Honolulu | 372.32
| Kauai | 130.70
| Maui | 172.60
Idaho | Ada | 52.22
| Adams | 16.74
| Bannock | 18.69
| Bear Lake | 16.22
| Benewah | 20.20
| Bingham | 21.61
| Blaine | 20.03
| Boise | 18.63
| Bonner | 52.80
| Bonneville | 25.20
| Boundary | 47.42
| Butte | 18.62
| Camas | 15.23
| Canyon | 76.13
| Caribou | 13.41
| Cassia | 20.69
| Clark | 10.91
| Clearwater | 25.76
| Custer | 29.34
| Elmore | 17.14
| Franklin | 25.82
| Fremont | 23.42
| Gem | 28.08
| Gooding | 49.50
| Idaho | 17.52
| Jefferson | 25.83
| Jerome | 42.77
| Kootenai | 50.45
| Latah | 25.83
| Lemhi | 19.72
| Lewis | 18.77
| Lincoln | 26.69
| Madison | 33.99
| Minidoka | 30.12
| Nez Perce | 18.24
| Oneida | 14.59
| Owyhee | 17.01
| Payette | 34.92
| Power | 12.97
| Shoshone | 72.62
| Teton | 45.45
| Twin Falls | 30.83
| Valley | 40.97
| Washington | 12.16
Illinois | Adams | 99.27
| Alexander | 87.55
| Bond | 96.41
| Boone | 139.89
| Brown | 86.34
| Bureau | 114.56
| Calhoun | 87.98
| Carroll | 104.06
| Cass | 100.74
| Champaign | 123.16
| Christian | 118.29
| Clark | 91.54
| Clay | 83.14
| Clinton | 107.79
| Coles | 109.66
| Cook | 295.01
| Crawford | 92.79
| Cumberland | 99.72
| DeKalb | 131.14
| De Witt | 118.04
| Douglas | 119.06
| DuPage | 212.55
| Edgar | 108.22
| Edwards | 78.89
| Effingham | 102.19
| Fayette | 83.39
| Ford | 112.52
| Franklin | 71.76
| Fulton | 99.72
| Gallatin | 84.13
| Greene | 102.70
| Grundy | 117.56
| Hamilton | 84.95
| Hancock | 94.09
| Hardin | 64.88
| Henderson | 97.63
| Henry | 111.81
| Iroquois | 114.13
| Jackson | 79.20
| Jasper | 93.67
| Jefferson | 80.22
| Jersey | 103.60
| Jo Daviess | 113.31
| Johnson | 66.35
| Kane | 137.57
| Kankakee | 122.57
| Kendall | 122.51
| Knox | 113.79
| Lake | 179.07
| La Salle | 118.92
| Lawrence | 92.79
| Lee | 122.09
| Livingston | 117.22
| Logan | 118.97
| McDonough | 109.91
| McHenry | 142.64
| McLean | 118.35
| Macon | 126.28
| Macoupin | 108.53
| Madison | 117.13
| Marion | 88.35
| Marshall | 114.47
| Mason | 93.41
| Massac | 71.67
| Menard | 108.50
| Mercer | 104.37
| Monroe | 100.66
| Montgomery | 107.93
| Morgan | 111.36
| Moultrie | 119.68
| Ogle | 128.37
| Peoria | 109.97
| Perry | 79.37
| Piatt | 123.64
| Pike | 99.53
| Pope | 64.34
| Pulaski | 83.70
| Putnam | 111.44
| Randolph | 91.03
| Richland | 87.01
| Rock Island | 115.94
| St. Clair | 107.54
| Saline | 81.81
| Sangamon | 110.14
| Schuyler | 92.28
| Scott | 102.02
| Shelby | 100.49
| Stark | 116.68
| Stephenson | 109.46
| Tazewell | 114.25
| Union | 75.01
| Vermilion | 111.81
| Wabash | 91.74
| Warren | 115.77
| Washington | 95.51
| Wayne | 76.34
| White | 80.39
| Whiteside | 108.13
| Will | 159.62
| Williamson | 80.22
| Winnebago | 124.86
| Woodford | 119.96
Indiana | Adams | 122.69
| Allen | 113.78
| Bartholomew | 107.39
| Benton | 95.69
| Blackford | 77.53
| Boone | 110.50
| Brown | 121.59
| Carroll | 116.55
| Cass | 101.06
| Clark | 101.20
| Clay | 89.21
| Clinton | 116.95
| Crawford | 82.11
| Daviess | 102.87
| Dearborn | 108.67
| Decatur | 100.75
| DeKalb | 102.53
| Delaware | 99.48
| Dubois | 91.42
| Elkhart | 156.88
| Fayette | 92.49
| Floyd | 130.98
| Fountain | 97.55
| Franklin | 103.94
| Fulton | 94.81
| Gibson | 89.07
| Grant | 96.62
| Greene | 82.20
| Hamilton | 128.52
| Hancock | 115.93
| Harrison | 91.90
| Hendricks | 116.33
| Henry | 97.58
| Howard | 117.29
| Huntington | 97.92
| Jackson | 84.97
| Jasper | 94.56
| Jay | 112.40
| Jefferson | 96.28
| Jennings | 90.17
| Johnson | 125.91
| Knox | 97.75
| Kosciusko | 105.47
| LaGrange | 144.01
| Lake | 112.00
| LaPorte | 103.35
| Lawrence | 79.26
| Madison | 105.64
| Marion | 166.07
| Marshall | 100.55
| Martin | 91.36
| Miami | 94.78
| Monroe | 102.95
| Montgomery | 106.18
| Morgan | 110.47
| Newton | 102.05
| Noble | 104.51
| Ohio | 100.97
| Orange | 82.20
| Owen | 90.79
| Parke | 87.57
| Perry | 75.38
| Pike | 78.81
| Porter | 117.66
| Posey | 86.16
| Pulaski | 87.74
| Putnam | 101.71
| Randolph | 89.10
| Ripley | 98.37
| Rush | 104.03
| St. Joseph | 103.21
| Scott | 87.32
| Shelby | 107.28
| Spencer | 86.24
| Starke | 85.82
| Steuben | 110.79
| Sullivan | 84.74
| Switzerland | 99.56
| Tippecanoe | 111.52
| Tipton | 116.50
| Union | 106.21
| Vanderburgh | 97.02
| Vermillion | 89.89
| Vigo | 86.89
| Wabash | 101.17
| Warren | 99.87
| Warrick | 86.33
| Washington | 79.85
| Wayne | 92.55
| Wells | 97.95
| White | 108.44
| Whitley | 108.01
Iowa | Adair | 76.87
| Adams | 72.41
| Allamakee | 79.00
| Appanoose | 61.24
| Audubon | 98.40
| Benton | 102.37
| Black Hawk | 110.59
| Boone | 106.57
| Bremer | 112.27
| Buchanan | 106.93
| Buena Vista | 108.61
| Butler | 99.59
| Calhoun | 108.10
| Carroll | 104.41
| Cass | 87.08
| Cedar | 104.33
| Cerro Gordo | 101.77
| Cherokee | 107.67
| Chickasaw | 102.77
| Clarke | 65.61
| Clay | 102.40
| Clayton | 88.16
| Clinton | 96.61
| Crawford | 88.36
| Dallas | 94.82
| Davis | 66.57
| Decatur | 58.43
| Delaware | 107.81
| Des Moines | 93.23
| Dickinson | 100.35
| Dubuque | 96.30
| Emmet | 101.94
| Fayette | 95.70
| Floyd | 105.74
| Franklin | 103.30
| Fremont | 86.82
| Greene | 108.04
| Grundy | 111.33
| Guthrie | 84.95
| Hamilton | 111.93
| Hancock | 101.40
| Hardin | 107.36
| Harrison | 84.13
| Henry | 86.65
| Howard | 86.54
| Humboldt | 106.40
| Ida | 91.19
| Iowa | 87.39
| Jackson | 80.53
| Jasper | 97.94
| Jefferson | 80.73
| Johnson | 106.40
| Jones | 99.16
| Keokuk | 84.36
| Kossuth | 102.20
| Lee | 76.87
| Linn | 106.71
| Louisa | 90.51
| Lucas | 61.66
| Lyon | 119.19
| Madison | 83.82
| Mahaska | 87.02
| Marion | 82.68
| Marshall | 105.63
| Mills | 94.54
| Mitchell | 101.60
| Monona | 89.97
| Monroe | 64.10
| Montgomery | 82.80
| Muscatine | 100.64
| O'Brien | 119.27
| Osceola | 110.03
| Page | 76.98
| Palo Alto | 102.62
| Plymouth | 102.91
| Pocahontas | 104.47
| Polk | 109.09
| Pottawattamie | 102.96
| Poweshiek | 94.20
| Ringgold | 64.47
| Sac | 109.40
| Scott | 119.30
| Shelby | 91.14
| Sioux | 128.61
| Story | 100.95
| Tama | 98.28
| Taylor | 70.54
| Union | 71.42
| Van Buren | 70.29
| Wapello | 87.53
| Warren | 88.78
| Washington | 104.61
| Wayne | 63.51
| Webster | 102.54
| Winnebago | 95.05
| Winneshiek | 92.19
| Woodbury | 84.56
| Worth | 100.44
| Wright | 110.91
Kansas | Allen | 28.20
| Anderson | 28.59
| Atchison | 38.22
| Barber | 18.16
| Barton | 23.61
| Bourbon | 31.36
| Brown | 47.70
| Butler | 30.52
| Chase | 27.11
| Chautauqua | 24.68
| Cherokee | 34.75
| Cheyenne | 17.23
| Clark | 17.68
| Clay | 32.65
| Cloud | 28.40
| Coffey | 27.33
| Comanche | 14.88
| Cowley | 26.77
| Crawford | 30.19
| Decatur | 18.38
| Dickinson | 29.68
| Doniphan | 47.92
| Douglas | 53.83
| Edwards | 24.54
| Elk | 27.47
| Ellis | 21.65
| Ellsworth | 21.12
| Finney | 21.91
| Ford | 19.92
| Franklin | 46.25
| Geary | 35.11
| Gove | 16.84
| Graham | 17.29
| Grant | 22.38
| Gray | 23.84
| Greeley | 19.78
| Greenwood | 26.80
| Hamilton | 18.77
| Harper | 20.65
| Harvey | 38.19
| Haskell | 29.71
| Hodgeman | 16.62
| Jackson | 33.04
| Jefferson | 44.96
| Jewell | 23.14
| Johnson | 56.07
| Kearny | 19.28
| Kingman | 23.47
| Kiowa | 17.63
| Labette | 28.70
| Lane | 16.73
| Leavenworth | 54.58
| Lincoln | 21.99
| Linn | 37.55
| Logan | 17.07
| Lyon | 27.33
| McPherson | 31.50
| Marion | 27.95
| Marshall | 35.25
| Meade | 19.81
| Miami | 57.46
| Mitchell | 25.79
| Montgomery | 31.95
| Morris | 24.56
| Morton | 16.11
| Nemaha | 39.42
| Neosho | 29.68
| Ness | 15.11
| Norton | 19.19
| Osage | 33.68
| Osborne | 21.23
| Ottawa | 23.14
| Pawnee | 23.95
| Phillips | 19.53
| Pottawatomie | 33.38
| Pratt | 25.04
| Rawlins | 17.85
| Reno | 28.34
| Republic | 31.03
| Rice | 25.07
| Riley | 34.83
| Rooks | 18.38
| Rush | 19.58
| Russell | 18.44
| Saline | 30.08
| Scott | 20.81
| Sedgwick | 40.40
| Seward | 20.34
| Shawnee | 44.71
| Sheridan | 21.68
| Sherman | 21.15
| Smith | 21.91
| Stafford | 24.26
| Stanton | 21.40
| Stevens | 22.10
| Sumner | 26.24
| Thomas | 22.86
| Trego | 17.29
| Wabaunsee | 27.28
| Wallace | 17.43
| Washington | 28.93
| Wichita | 18.72
| Wilson | 26.89
| Woodson | 25.99
| Wyandotte | 68.01
Kentucky | Adair | 69.64
| Allen | 78.65
| Anderson | 76.54
| Ballard | 72.57
| Barren | 78.43
| Bath | 56.93
| Bell | 54.59
| Boone | 138.82
| Bourbon | 132.54
| Boyd | 73.33
| Boyle | 91.17
| Bracken | 57.86
| Breathitt | 42.72
| Breckinridge | 59.63
| Bullitt | 106.70
| Butler | 54.53
| Caldwell | 55.80
| Calloway | 79.50
| Campbell | 110.05
| Carlisle | 66.93
| Carroll | 66.79
| Carter | 50.11
| Casey | 57.12
| Christian | 72.71
| Clark | 94.38
| Clay | 52.81
| Clinton | 64.73
| Crittenden | 53.26
| Cumberland | 51.01
| Daviess | 85.22
| Edmonson | 61.13
| Elliott | 43.93
| Estill | 56.33
| Fayette | 185.83
| Fleming | 55.57
| Floyd | 65.47
| Franklin | 91.53
| Fulton | 63.72
| Gallatin | 84.01
| Garrard | 73.89
| Grant | 79.44
| Graves | 79.05
| Grayson | 60.59
| Green | 65.38
| Greenup | 55.80
| Hancock | 60.62
| Hardin | 81.02
| Harlan | 47.20
| Harrison | 75.61
| Hart | 67.92
| Henderson | 78.57
| Henry | 92.10
| Hickman | 73.89
| Hopkins | 61.63
| Jackson | 51.52
| Jefferson | 205.78
| Jessamine | 132.37
| Johnson | 60.14
| Kenton | 125.46
| Knott | 56.19
| Knox | 61.80
| Larue | 77.22
| Laurel | 80.43
| Lawrence | 41.37
| Lee | 36.58
| Leslie | 22.46
| Letcher | 47.29
| Lewis | 43.06
| Lincoln | 67.02
| Livingston | 55.35
| Logan | 74.99
| Lyon | 48.47
| McCracken | 82.46
| McCreary | 67.33
| McLean | 84.88
| Madison | 83.16
| Magoffin | 47.37
| Marion | 68.96
| Marshall | 71.89
| Martin | 23.48
| Mason | 71.24
| Meade | 82.99
| Menifee | 53.01
| Mercer | 96.41
| Metcalfe | 65.75
| Monroe | 65.49
| Montgomery | 71.13
| Morgan | 45.71
| Muhlenberg | 55.71
| Nelson | 91.70
| Nicholas | 55.69
| Ohio | 56.42
| Oldham | 172.22
| Owen | 64.23
| Owsley | 42.02
| Pendleton | 71.24
| Perry | 34.33
| Pike | 26.38
| Powell | 54.28
| Pulaski | 73.98
| Robertson | 50.25
| Rockcastle | 58.17
| Rowan | 55.77
| Russell | 87.36
| Scott | 108.50
| Shelby | 124.90
| Simpson | 83.28
| Spencer | 92.86
| Taylor | 69.81
| Todd | 80.54
| Trigg | 72.79
| Trimble | 71.81
| Union | 72.79
| Warren | 88.38
| Washington | 69.47
| Wayne | 57.60
| Webster | 65.55
| Whitley | 69.30
| Wolfe | 49.77
| Woodford | 196.37
Louisiana | Acadia | 49.39
| Allen | 50.81
| Ascension | 92.82
| Assumption | 68.63
| Avoyelles | 47.52
| Beauregard | 59.75
| Bienville | 57.39
| Bossier | 74.33
| Caddo | 57.18
| Calcasieu | 47.65
| Caldwell | 50.52
| Cameron | 47.71
| Catahoula | 43.77
| Claiborne | 69.73
| Concordia | 46.61
| De Soto | 53.51
| East Baton Rouge | 107.91
| East Carroll | 42.65
| East Feliciana | 69.40
| Evangeline | 47.33
| Franklin | 46.45
| Grant | 49.55
| Iberia | 66.84
| Iberville | 76.55
| Jackson | 84.04
| Jefferson | 55.38
| Jefferson Davis | 47.30
| Lafayette | 91.37
| Lafourche | 65.10
| La Salle | 62.02
| Lincoln | 85.27
| Livingston | 115.91
| Madison | 43.00
| Morehouse | 43.45
| Natchitoches | 44.23
| Orleans | 55.06
| Ouachita | 59.88
| Plaquemines | 33.74
| Pointe Coupee | 52.76
| Rapides | 67.08
| Red River | 44.84
| Richland | 42.89
| Sabine | 79.33
| St. Bernard | 31.46
| St. Charles | 55.06
| St. Helena | 81.45
| St. James | 69.51
| St. John the Baptist | 77.08
| St. Landry | 52.60
| St. Martin | 64.43
| St. Mary | 59.91
| St. Tammany | 144.46
| Tangipahoa | 104.21
| Tensas | 43.16
| Terrebonne | 31.81
| Union | 78.80
| Vermilion | 53.51
| Vernon | 83.37
| Washington | 88.16
| Webster | 68.60
| West Baton Rouge | 80.16
| West Carroll | 49.18
| West Feliciana | 64.48
| Winn | 57.85
Maine | Androscoggin | 80.57
| Aroostook | 31.11
| Cumberland | 133.95
| Franklin | 70.81
| Hancock | 76.42
| Kennebec | 73.29
| Knox | 104.16
| Lincoln | 103.60
| Oxford | 74.42
| Penobscot | 61.55
| Piscataquis | 53.93
| Sagadahoc | 100.12
| Somerset | 50.72
| Waldo | 61.04
| Washington | 30.46
| York | 126.76
Maryland | Allegany | 122.04
| Anne Arundel | 366.06
| Baltimore | 255.31
| Calvert | 237.12
| Caroline | 152.76
| Carroll | 218.49
| Cecil | 213.19
| Charles | 188.19
| Dorchester | 135.73
| Frederick | 231.33
| Garrett | 160.55
| Harford | 269.50
| Howard | 366.28
| Kent | 169.25
| Montgomery | 266.15
| Prince George's | 262.27
| Queen Anne's | 160.41
| St. Mary's | 201.80
| Somerset | 175.80
| Talbot | 171.03
| Washington | 210.34
| Wicomico | 160.60
| Worcester | 122.18
Massachusetts | Barnstable | 885.83
| Berkshire | 218.44
| Bristol | 397.77
| Dukes | 376.20
| Essex | 461.86
| Franklin | 193.49
| Hampden | 264.71
| Hampshire | 223.88
| Middlesex | 467.32
| Nantucket | 253.07
| Norfolk | 517.06
| Plymouth | 364.83
| Suffolk | 664.00
| Worcester | 293.98
Michigan | Alcona | 66.83
| Alger | 59.11
| Allegan | 114.97
| Alpena | 70.96
| Antrim | 106.09
| Arenac | 65.84
| Baraga | 56.28
| Barry | 95.97
| Bay | 77.47
| Benzie | 125.97
| Berrien | 126.90
| Branch | 82.42
| Calhoun | 82.80
| Cass | 96.33
| Charlevoix | 104.14
| Cheboygan | 74.39
| Chippewa | 52.92
| Clare | 78.87
| Clinton | 99.41
| Crawford | 111.48
| Delta | 62.82
| Dickinson | 67.88
| Eaton | 83.74
| Emmet | 98.42
| Genesee | 102.63
| Gladwin | 81.40
| Gogebic | 93.83
| Grand Traverse | 153.35
| Gratiot | 81.35
| Hillsdale | 82.83
| Houghton | 54.57
| Huron | 85.75
| Ingham | 105.05
| Ionia | 94.46
| Iosco | 74.09
| Iron | 74.94
| Isabella | 81.90
| Jackson | 95.37
| Kalamazoo | 115.00
| Kalkaska | 94.46
| Kent | 133.03
| Keweenaw | 57.57
| Lake | 80.06
| Lapeer | 113.18
| Leelanau | 194.37
| Lenawee | 87.92
| Livingston | 138.67
| Luce | 80.99
| Mackinac | 58.14
| Macomb | 141.69
| Manistee | 84.67
| Marquette | 66.39
| Mason | 87.75
| Mecosta | 79.89
| Menominee | 61.28
| Midland | 82.47
| Missaukee | 80.28
| Monroe | 105.18
| Montcalm | 78.76
| Montmorency | 65.43
| Muskegon | 108.92
| Newaygo | 93.88
| Oakland | 231.53
| Oceana | 103.97
| Ogemaw | 77.53
| Ontonagon | 43.71
| Osceola | 73.35
| Oscoda | 70.38
| Otsego | 73.07
| Ottawa | 159.92
| Presque Isle | 62.02
| Roscommon | 114.61
| Saginaw | 77.94
| St. Clair | 105.40
| St. Joseph | 92.98
| Sanilac | 80.17
| Schoolcraft | 38.60
| Shiawassee | 80.96
| Tuscola | 83.27
| Van Buren | 117.69
| Washtenaw | 137.54
| Wayne | 212.81
| Wexford | 87.64
Minnesota | Aitkin | 47.36
| Anoka | 164.16
| Becker | 53.03
| Beltrami | 43.86
| Benton | 85.99
| Big Stone | 60.76
| Blue Earth | 100.24
| Brown | 83.45
| Carlton | 58.87
| Carver | 111.25
| Cass | 59.97
| Chippewa | 75.58
| Chisago | 121.63
| Clay | 52.18
| Clearwater | 41.96
| Cook | 121.27
| Cottonwood | 83.73
| Crow Wing | 73.21
| Dakota | 109.84
| Dodge | 104.16
| Douglas | 68.01
| Faribault | 89.66
| Fillmore | 81.33
| Freeborn | 87.68
| Goodhue | 100.78
| Grant | 63.05
| Hennepin | 154.88
| Houston | 75.60
| Hubbard | 65.39
| Isanti | 112.86
| Itasca | 56.05
| Jackson | 85.91
| Kanabec | 69.25
| Kandiyohi | 80.23
| Kittson | 33.41
| Koochiching | 38.16
| Lac qui Parle | 64.80
| Lake | 93.81
| Lake of the Woods | 33.75
| Le Sueur | 98.89
| Lincoln | 63.70
| Lyon | 77.52
| McLeod | 95.92
| Mahnomen | 39.28
| Marshall | 36.46
| Martin | 86.89
| Meeker | 84.86
| Mille Lacs | 78.51
| Morrison | 65.59
| Mower | 89.77
| Murray | 74.87
| Nicollet | 95.13
| Nobles | 88.67
| Norman | 44.22
| Olmsted | 101.43
| Otter Tail | 56.75
| Pennington | 38.78
| Pine | 60.90
| Pipestone | 76.62
| Polk | 42.39
| Pope | 61.86
| Ramsey | 236.32
| Red Lake | 38.07
| Redwood | 85.43
| Renville | 82.21
| Rice | 119.07
| Rock | 91.78
| Roseau | 31.16
| St. Louis | 55.34
| Scott | 141.59
| Sherburne | 108.60
| Sibley | 93.69
| Stearns | 79.87
| Steele | 95.11
| Stevens | 70.24
| Swift | 70.44
| Todd | 61.75
| Traverse | 61.64
| Wabasha | 82.58
| Wadena | 54.18
| Waseca | 98.07
| Washington | 161.59
| Watonwan | 84.41
| Wilkin | 55.31
| Winona | 84.16
| Wright | 113.34
| Yellow Medicine | 71.46
Mississippi | Adams | 46.43
| Alcorn | 46.21
| Amite | 65.70
| Attala | 43.44
| Benton | 39.70
| Bolivar | 55.30
| Calhoun | 38.59
| Carroll | 41.64
| Chickasaw | 40.44
| Choctaw | 49.01
| Claiborne | 44.44
| Clarke | 51.59
| Clay | 40.58
| Coahoma | 49.98
| Copiah | 53.45
| Covington | 68.69
| DeSoto | 65.03
| Forrest | 83.80
| Franklin | 51.64
| George | 81.14
| Greene | 65.56
| Grenada | 44.46
| Hancock | 82.83
| Harrison | 133.03
| Hinds | 51.62
| Holmes | 46.46
| Humphreys | 46.85
| Issaquena | 47.87
| Itawamba | 41.69
| Jackson | 100.10
| Jasper | 56.72
| Jefferson | 49.87
| Jefferson Davis | 56.80
| Jones | 86.32
| Kemper | 38.28
| Lafayette | 55.36
| Lamar | 75.43
| Lauderdale | 47.54
| Lawrence | 61.51
| Leake | 62.20
| Lee | 49.37
| Leflore | 47.43
| Lincoln | 63.48
| Lowndes | 49.48
| Madison | 54.28
| Marion | 68.11
| Marshall | 50.12
| Monroe | 41.11
| Montgomery | 42.19
| Neshoba | 67.31
| Newton | 56.49
| Noxubee | 42.52
| Oktibbeha | 49.56
| Panola | 42.63
| Pearl River | 75.04
| Perry | 67.75
| Pike | 75.23
| Pontotoc | 45.96
| Prentiss | 38.84
| Quitman | 42.91
| Rankin | 69.41
| Scott | 57.49
| Sharkey | 43.30
| Simpson | 67.03
| Smith | 68.91
| Stone | 75.90
| Sunflower | 48.26
| Tallahatchie | 42.38
| Tate | 56.16
| Tippah | 40.33
| Tishomingo | 42.80
| Tunica | 50.15
| Union | 42.22
| Walthall | 68.08
| Warren | 49.04
| Washington | 49.56
| Wayne | 69.14
| Webster | 41.47
| Wilkinson | 50.15
| Winston | 47.26
| Yalobusha | 42.69
| Yazoo | 46.88
Missouri | Adair | 52.31
| Andrew | 68.02
| Atchison | 68.89
| Audrain | 73.30
| Barry | 72.54
| Barton | 52.20
| Bates | 54.93
| Benton | 53.41
| Bollinger | 52.62
| Boone | 78.81
| Buchanan | 75.92
| Butler | 63.67
| Caldwell | 56.16
| Callaway | 71.59
| Camden | 52.20
| Cape Girardeau | 71.36
| Carroll | 59.40
| Carter | 45.80
| Cass | 79.76
| Cedar | 51.22
| Chariton | 55.32
| Christian | 78.25
| Clark | 55.38
| Clay | 80.07
| Clinton | 65.46
| Cole | 67.71
| Cooper | 62.54
| Crawford | 52.23
| Dade | 51.11
| Dallas | 62.46
| Daviess | 54.42
| DeKalb | 55.01
| Dent | 47.29
| Douglas | 51.84
| Dunklin | 69.45
| Franklin | 84.06
| Gasconade | 61.95
| Gentry | 52.51
| Greene | 92.07
| Grundy | 52.29
| Harrison | 51.61
| Henry | 50.66
| Hickory | 43.89
| Holt | 68.89
| Howard | 59.25
| Howell | 48.72
| Iron | 47.99
| Jackson | 91.76
| Jasper | 62.09
| Jefferson | 86.54
| Johnson | 62.57
| Knox | 53.30
| Laclede | 54.17
| Lafayette | 76.00
| Lawrence | 69.31
| Lewis | 59.87
| Lincoln | 88.08
| Linn | 51.30
| Livingston | 56.89
| McDonald | 66.59
| Macon | 50.35
| Madison | 48.04
| Maries | 47.88
| Marion | 62.68
| Mercer | 50.88
| Miller | 56.08
| Mississippi | 66.45
| Moniteau | 66.73
| Monroe | 63.61
| Montgomery | 80.07
| Morgan | 62.26
| New Madrid | 68.13
| Newton | 73.70
| Nodaway | 59.06
| Oregon | 47.93
| Osage | 54.45
| Ozark | 47.90
| Pemiscot | 60.72
| Perry | 61.11
| Pettis | 66.45
| Phelps | 58.02
| Pike | 66.53
| Platte | 79.88
| Polk | 60.83
| Pulaski | 52.31
| Putnam | 48.47
| Ralls | 66.67
| Randolph | 57.12
| Ray | 61.81
| Reynolds | 40.01
| Ripley | 48.58
| St. Charles | 91.90
| St. Clair | 50.21
| Ste. Genevieve | 60.91
| St. Francois | 74.06
| St Louis | 103.56
| Saline | 62.06
| Schuyler | 47.76
| Scotland | 55.21
| Scott | 72.63
| Shannon | 49.34
| Shelby | 58.24
| Stoddard | 66.56
| Stone | 69.26
| Sullivan | 44.00
| Taney | 53.44
| Texas | 48.80
| Vernon | 51.75
| Warren | 93.39
| Washington | 52.37
| Wayne | 47.93
| Webster | 73.41
| Worth | 45.94
| Wright | 50.88
Montana | Beaverhead | 26.69
| Big Horn | 9.04
| Blaine | 13.58
| Broadwater | 24.41
| Carbon | 31.72
| Carter | 8.73
| Cascade | 20.18
| Chouteau | 14.89
| Custer | 11.59
| Daniels | 13.09
| Dawson | 11.32
| Deer Lodge | 32.59
| Fallon | 12.87
| Fergus | 20.51
| Flathead | 85.95
| Gallatin | 50.09
| Garfield | 9.55
| Glacier | 12.60
| Golden Valley | 16.68
| Granite | 30.53
| Hill | 14.73
| Jefferson | 27.09
| Judith Basin | 18.63
| Lake | 34.45
| Lewis and Clark | 21.71
| Liberty | 10.28
| Lincoln | 82.30
| McCone | 10.54
| Madison | 34.98
| Meagher | 25.90
| Mineral | 81.32
| Missoula | 49.20
| Musselshell | 13.47
| Park | 40.23
| Petroleum | 10.79
| Phillips | 11.08
| Pondera | 15.77
| Powder River | 14.33
| Powell | 20.03
| Prairie | 13.73
| Ravalli | 85.84
| Richland | 15.53
| Roosevelt | 15.73
| Rosebud | 8.53
| Sanders | 33.54
| Sheridan | 14.71
| Silver Bow | 48.05
| Stillwater | 22.66
| Sweet Grass | 26.89
| Teton | 18.79
| Toole | 13.16
| Treasure | 11.01
| Valley | 13.05
| Wheatland | 12.36
| Wibaux | 9.35
| Yellowstone | 17.19
Nebraska | Adams | 56.76
| Antelope | 42.08
| Arthur | 8.50
| Banner | 13.97
| Blaine | 11.53
| Boone | 47.15
| Box Butte | 20.97
| Boyd | 19.87
| Brown | 12.72
| Buffalo | 42.74
| Burt | 63.46
| Butler | 62.54
| Cass | 65.31
| Cedar | 50.53
| Chase | 25.52
| Cherry | 10.33
| Cheyenne | 18.85
| Clay | 58.27
| Colfax | 62.41
| Cuming | 63.43
| Custer | 25.95
| Dakota | 44.91
| Dawes | 14.32
| Dawson | 34.02
| Deuel | 18.04
| Dixon | 46.89
| Dodge | 67.53
| Douglas | 92.66
| Dundy | 20.89
| Fillmore | 61.32
| Franklin | 32.90
| Frontier | 19.92
| Furnas | 24.88
| Gage | 45.70
| Garden | 11.86
| Garfield | 14.17
| Gosper | 31.22
| Grant | 7.71
| Greeley | 30.25
| Hall | 52.03
| Hamilton | 66.28
| Harlan | 29.16
| Hayes | 17.25
| Hitchcock | 19.54
| Holt | 22.80
| Hooker | 8.73
| Howard | 39.67
| Jefferson | 45.59
| Johnson | 39.06
| Kearney | 51.06
| Keith | 21.80
| Keya Paha | 14.12
| Kimball | 17.81
| Knox | 37.05
| Lancaster | 64.50
| Lincoln | 21.22
| Logan | 13.00
| Loup | 11.42
| McPherson | 9.29
| Madison | 55.14
| Merrick | 46.59
| Morrill | 16.44
| Nance | 37.05
| Nemaha | 49.77
| Nuckolls | 41.93
| Otoe | 55.52
| Pawnee | 33.33
| Perkins | 24.86
| Phelps | 52.24
| Pierce | 50.73
| Platte | 57.88
| Polk | 62.77
| Red Willow | 26.82
| Richardson | 48.29
| Rock | 12.98
| Saline | 53.38
| Sarpy | 85.36
| Saunders | 67.98
| Scotts Bluff | 27.71
| Seward | 64.42
| Sheridan | 12.26
| Sherman | 27.84
| Sioux | 12.14
| Stanton | 47.15
| Thayer | 46.33
| Thomas | 8.68
| Thurston | 50.10
| Valley | 28.55
| Washington | 78.09
| Wayne | 60.86
| Webster | 32.11
| Wheeler | 17.84
| York | 67.07
Nevada | Carson City | 28.23
| Churchill | 18.13
| Clark | 27.57
| Douglas | 22.01
| Elko | 2.79
| Esmeralda | 12.23
| Eureka | 1.30
| Humboldt | 5.23
| Lander | 3.70
| Lincoln | 13.42
| Lyon | 11.49
| Mineral | 8.91
| Nye | 11.66
| Pershing | 6.46
| Storey | 128.13
| Washoe | 7.19
| White Pine | 7.53
New Hampshire | Belknap | 155.34
| Carroll | 127.24
| Cheshire | 125.04
| Coos | 64.93
| Grafton | 106.26
| Hillsborough | 186.02
| Merrimack | 129.05
| Rockingham | 259.49
| Strafford | 167.89
| Sullivan | 107.75
New Jersey | Atlantic | 366.70
| Bergen | 1,711.26
| Burlington | 296.32
| Camden | 382.68
| Cape May | 397.07
| Cumberland | 231.15
| Essex | 2,276.64
| Gloucester | 382.33
| Hudson* | 379.54
| Hunterdon | 498.94
| Mercer | 465.28
| Middlesex | 501.79
| Monmouth | 586.60
| Morris | 608.56
| Ocean | 448.05
| Passaic | 1,013.15
| Salem | 259.07
| Somerset | 506.36
| Sussex | 336.97
| Union | 3,295.87
| Warren | 305.44
New Mexico | Bernalillo | 23.71
| Catron | 4.55
| Chaves | 5.45
| Cibola | 3.22
| Colfax | 5.93
| Curry | 11.65
| De Baca | 4.09
| Dona Ana | 33.80
| Eddy | 6.70
| Grant | 4.17
| Guadalupe | 3.23
| Harding* | 5.99
| Hidalgo | 3.00
| Lea | 3.98
| Lincoln | 4.96
| Los Alamos* | 5.99
| Luna | 6.22
| McKinley | 2.31
| Mora | 9.24
| Otero | 5.72
| Quay | 6.41
| Rio Arriba | 8.37
| Roosevelt | 8.35
| Sandoval | 6.41
| San Juan | 5.54
| San Miguel | 5.77
| Santa Fe | 11.88
| Sierra | 3.85
| Socorro | 4.90
| Taos | 11.07
| Torrance | 5.88
| Union | 5.47
| Valencia | 11.53
New York | Albany | 86.53
| Allegany | 38.49
| Bronx* | 61.40
| Broome | 49.83
| Cattaraugus | 47.02
| Cayuga | 57.36
| Chautauqua | 53.15
| Chemung | 49.39
| Chenango | 48.66
| Clinton | 47.26
| Columbia | 115.58
| Cortland | 42.02
| Delaware | 61.22
| Dutchess | 151.18
| Erie | 80.00
| Essex | 63.48
| Franklin | 39.22
| Fulton | 58.65
| Genesee | 47.26
| Greene | 78.81
| Hamilton* | 61.40
| Herkimer | 47.05
| Jefferson | 37.41
| Kings* | 61.40
| Lewis | 43.32
| Livingston | 54.36
| Madison | 45.43
| Monroe | 69.74
| Montgomery | 58.30
| Nassau | 2,672.03
| New York | 61.40
| Niagara | 57.60
| Oneida | 52.23
| Onondaga | 64.67
| Ontario | 59.49
| Orange | 139.00
| Orleans | 46.34
| Oswego | 50.82
| Otsego | 51.26
| Putnam | 376.90
| Queens | 61.40
| Rensselaer | 85.10
| Richmond | 3,259.86
| Rockland | 1,525.40
| St. Lawrence | 36.33
| Saratoga | 117.82
| Schenectady | 97.09
| Schoharie | 57.76
| Schuyler | 58.79
| Seneca | 54.33
| Steuben | 42.43
| Suffolk | 488.94
| Sullivan | 94.28
| Tioga | 47.26
| Tompkins | 61.05
| Ulster | 107.56
| Warren | 93.71
| Washington | 57.49
| Wayne | 61.67
| Westchester | 858.64
| Wyoming | 47.99
| Yates | 76.79
North Carolina | Alamance | 124.67
| Alexander | 147.79
| Alleghany | 153.50
| Anson | 96.46
| Ashe | 155.93
| Avery | 204.47
| Beaufort | 69.39
| Bertie | 69.09
| Bladen | 89.13
| Brunswick | 115.72
| Buncombe | 191.95
| Burke | 159.04
| Cabarrus | 152.01
| Caldwell | 137.30
| Camden | 79.64
| Carteret | 83.10
| Caswell | 84.43
| Catawba | 143.33
| Chatham | 151.41
| Cherokee | 182.46
| Chowan | 66.55
| Clay | 192.84
| Cleveland | 108.36
| Columbus | 89.11
| Craven | 83.18
| Cumberland | 81.35
| Currituck | 89.92
| Dare | 60.95
| Davidson | 153.82
| Davie | 141.68
| Duplin | 110.39
| Durham | 138.35
| Edgecombe | 67.47
| Forsyth | 182.03
| Franklin | 101.01
| Gaston | 150.74
| Gates | 68.36
| Graham | 118.85
| Granville | 90.35
| Greene | 92.65
| Guilford | 141.84
| Halifax | 64.34
| Harnett | 143.41
| Haywood | 169.23
| Henderson | 278.84
| Hertford | 55.52
| Hoke | 91.57
| Hyde | 63.63
| Iredell | 155.79
| Jackson | 195.44
| Johnston | 116.66
| Jones | 75.50
| Lee | 125.05
| Lenoir | 91.46
| Lincoln | 124.97
| McDowell | 160.42
| Macon | 236.38
| Madison | 142.71
| Martin | 79.48
| Mecklenburg | 419.16
| Mitchell | 137.59
| Montgomery | 100.41
| Moore | 141.89
| Nash | 91.84
| New Hanover | 216.80
| Northampton | 68.23
| Onslow | 123.37
| Orange | 151.76
| Pamlico | 66.61
| Pasquotank | 70.07
| Pender | 108.90
| Perquimans | 77.96
| Person | 92.05
| Pitt | 91.78
| Polk | 201.60
| Randolph | 131.00
| Richmond | 103.66
| Robeson | 77.91
| Rockingham | 104.87
| Rowan | 140.49
| Rutherford | 118.64
| Sampson | 101.09
| Scotland | 78.29
| Stanly | 108.71
| Stokes | 114.77
| Surry | 126.78
| Swain | 165.85
| Transylvania | 198.63
| Tyrrell | 61.63
| Union | 140.79
| Vance | 89.35
| Wake | 214.86
| Warren | 66.47
| Washington | 60.49
| Watauga | 191.98
| Wayne | 112.50
| Wilkes | 151.17
| Wilson | 87.02
| Yadkin | 140.43
| Yancey | 131.64
North Dakota | Adams | 16.48
| Barnes | 26.62
| Benson | 20.56
| Billings | 13.34
| Bottineau | 20.79
| Bowman | 14.47
| Burke | 17.73
| Burleigh | 20.59
| Cass | 41.55
| Cavalier | 26.91
| Dickey | 29.48
| Divide | 17.70
| Dunn | 14.47
| Eddy | 16.71
| Emmons | 19.23
| Foster | 21.55
| Golden Valley | 13.23
| Grand Forks | 29.94
| Grant | 14.64
| Griggs | 19.32
| Hettinger | 21.16
| Kidder | 16.23
| LaMoure | 29.77
| Logan | 20.70
| McHenry | 18.55
| McIntosh | 20.53
| McKenzie | 14.61
| McLean | 22.09
| Mercer | 17.02
| Morton | 17.98
| Mountrail | 16.65
| Nelson | 19.85
| Oliver | 18.21
| Pembina | 38.29
| Pierce | 18.27
| Ramsey | 19.97
| Ransom | 29.11
| Renville | 25.40
| Richland | 39.08
| Rolette | 18.95
| Sargent | 31.83
| Sheridan | 16.62
| Sioux | 10.48
| Slope | 13.62
| Stark | 20.22
| Steele | 27.59
| Stutsman | 23.25
| Towner | 21.10
| Traill | 38.91
| Walsh | 31.52
| Ward | 23.96
| Wells | 23.65
| Williams | 18.69
Ohio | Adams | 80.38
| Allen | 101.04
| Ashland | 105.61
| Ashtabula | 82.19
| Athens | 73.16
| Auglaize | 107.56
| Belmont | 59.39
| Brown | 82.64
| Butler | 130.89
| Carroll | 89.84
| Champaign | 103.21
| Clark | 107.95
| Clermont | 117.04
| Clinton | 101.66
| Columbiana | 108.23
| Coshocton | 83.40
| Crawford | 90.29
| Cuyahoga | 630.21
| Darke | 118.36
| Defiance | 84.17
| Delaware | 126.32
| Erie | 112.69
| Fairfield | 119.38
| Fayette | 94.75
| Franklin | 133.94
| Fulton | 101.15
| Gallia | 77.54
| Geauga | 169.83
| Greene | 110.63
| Guernsey | 73.58
| Hamilton | 186.95
| Hancock | 91.73
| Hardin | 91.45
| Harrison | 64.13
| Henry | 95.31
| Highland | 88.20
| Hocking | 95.17
| Holmes | 130.47
| Huron | 97.51
| Jackson | 71.50
| Jefferson | 66.28
| Knox | 100.36
| Lake | 216.61
| Lawrence | 71.41
| Licking | 113.82
| Logan | 88.60
| Lorain | 126.97
| Lucas | 122.76
| Madison | 109.33
| Mahoning | 116.27
| Marion | 87.02
| Medina | 155.61
| Meigs | 72.03
| Mercer | 137.75
| Miami | 109.98
| Monroe | 58.52
| Montgomery | 125.81
| Morgan | 61.71
| Morrow | 97.12
| Muskingum | 79.03
| Noble | 64.67
| Ottawa | 81.57
| Paulding | 89.70
| Perry | 81.06
| Pickaway | 97.17
| Pike | 71.02
| Portage | 131.06
| Preble | 102.56
| Putnam | 98.39
| Richland | 102.03
| Ross | 80.30
| Sandusky | 87.13
| Scioto | 74.43
| Seneca | 88.14
| Shelby | 115.74
| Stark | 134.28
| Summit | 224.11
| Trumbull | 92.63
| Tuscarawas | 98.50
| Union | 94.35
| Van Wert | 101.07
| Vinton | 76.69
| Warren | 150.50
| Washington | 72.40
| Wayne | 141.30
| Williams | 86.48
| Wood | 94.77
| Wyandot | 88.20
Oklahoma | Adair | 53.67
| Alfalfa | 26.01
| Atoka | 34.56
| Beaver | 17.66
| Beckham | 27.77
| Blaine | 23.43
| Bryan | 44.73
| Caddo | 30.58
| Canadian | 42.04
| Carter | 39.46
| Cherokee | 52.21
| Choctaw | 37.64
| Cimarron | 14.04
| Cleveland | 67.37
| Coal | 34.89
| Comanche | 32.15
| Cotton | 27.27
| Craig | 36.83
| Creek | 44.56
| Custer | 29.99
| Delaware | 58.18
| Dewey | 23.57
| Ellis | 20.32
| Garfield | 28.53
| Garvin | 37.27
| Grady | 36.21
| Grant | 24.91
| Greer | 20.09
| Harmon | 23.99
| Harper | 19.51
| Haskell | 36.04
| Hughes | 33.01
| Jackson | 24.33
| Jefferson | 29.54
| Johnston | 34.14
| Kay | 28.98
| Kingfisher | 31.47
| Kiowa | 25.81
| Latimer | 35.31
| Le Flore | 46.75
| Lincoln | 45.85
| Logan | 38.76
| Love | 41.98
| McClain | 47.17
| McCurtain | 44.36
| McIntosh | 37.05
| Major | 26.43
| Marshall | 42.46
| Mayes | 55.07
| Murray | 39.07
| Muskogee | 45.68
| Noble | 32.12
| Nowata | 33.72
| Okfuskee | 33.24
| Oklahoma | 72.17
| Okmulgee | 48.85
| Osage | 26.32
| Ottawa | 50.22
| Pawnee | 34.92
| Payne | 46.49
| Pittsburg | 34.19
| Pontotoc | 39.38
| Pottawatomie | 39.91
| Pushmataha | 36.43
| Roger Mills | 21.66
| Rogers | 59.98
| Seminole | 38.82
| Sequoyah | 47.34
| Stephens | 33.60
| Texas | 19.09
| Tillman | 23.21
| Tulsa | 81.42
| Wagoner | 49.83
| Washington | 41.17
| Washita | 28.05
| Woods | 22.62
| Woodward | 23.23
Oregon | Baker | 22.54
| Benton | 103.73
| Clackamas | 266.50
| Clatsop | 118.35
| Columbia | 125.92
| Coos | 72.78
| Crook | 18.54
| Curry | 68.11
| Deschutes | 133.67
| Douglas | 66.01
| Gilliam | 8.60
| Grant | 12.95
| Harney | 10.15
| Hood River | 343.44
| Jackson | 113.44
| Jefferson | 15.73
| Josephine | 171.76
| Klamath | 30.67
| Lake | 18.04
| Lane | 144.29
| Lincoln | 101.89
| Linn | 84.39
| Malheur | 21.34
| Marion | 134.12
| Morrow | 14.35
| Multnomah | 245.67
| Polk | 106.26
| Sherman | 12.19
| Tillamook | 121.07
| Umatilla | 22.46
| Union | 29.22
| Wallowa | 22.33
| Wasco | 14.37
| Washington | 197.74
| Wheeler | 9.01
| Yamhill | 171.92
Pennsylvania | Adams | 178.02
| Allegheny | 161.19
| Armstrong | 87.19
| Beaver | 136.28
| Bedford | 96.10
| Berks | 191.76
| Blair | 115.08
| Bradford | 85.07
| Bucks | 277.28
| Butler | 126.98
| Cambria | 96.88
| Cameron | 55.56
| Carbon | 152.36
| Centre | 141.97
| Chester | 299.26
| Clarion | 80.86
| Clearfield | 70.38
| Clinton | 117.70
| Columbia | 117.31
| Crawford | 80.36
| Cumberland | 176.85
| Dauphin | 170.00
| Delaware | 362.79
| Elk | 95.27
| Erie | 111.60
| Fayette | 101.65
| Forest | 92.23
| Franklin | 169.39
| Fulton | 97.22
| Greene | 87.16
| Huntingdon | 101.95
| Indiana | 101.12
| Jefferson | 76.01
| Juniata | 128.43
| Lackawanna | 137.45
| Lancaster | 259.80
| Lawrence | 105.83
| Lebanon | 231.80
| Lehigh | 163.67
| Luzerne | 131.74
| Lycoming | 96.38
| McKean | 58.90
| Mercer | 88.89
| Mifflin | 128.95
| Monroe | 196.97
| Montgomery | 279.34
| Montour | 142.58
| Northampton | 169.50
| Northumberland | 112.51
| Perry | 123.13
| Philadelphia | 976.10
| Pike | 46.37
| Potter | 72.36
| Schuylkill | 139.65
| Snyder | 138.79
| Somerset | 79.66
| Sullivan | 69.10
| Susquehanna | 91.37
| Tioga | 82.39
| Union | 164.62
| Venango | 76.43
| Warren | 73.31
| Washington | 123.10
| Wayne | 115.27
| Westmoreland | 125.50
| Wyoming | 96.91
| York | 158.27
Puerto Rico | All Areas | 215.61
Rhode Island | Bristol | 652.45
| Kent | 341.97
| Newport | 581.14
| Providence | 446.75
| Washington | 373.03
South Carolina | Abbeville | 74.49
| Aiken | 98.97
| Allendale | 50.28
| Anderson | 108.71
| Bamberg | 59.20
| Barnwell | 71.76
| Beaufort | 60.85
| Berkeley | 94.91
| Calhoun | 67.56
| Charleston | 191.23
| Cherokee | 77.74
| Chester | 86.36
| Chesterfield | 65.24
| Clarendon | 54.59
| Colleton | 54.87
| Darlington | 48.68
| Dillon | 55.67
| Dorchester | 92.07
| Edgefield | 84.09
| Fairfield | 77.33
| Florence | 71.20
| Georgetown | 75.34
| Greenville | 156.26
| Greenwood | 77.33
| Hampton | 60.91
| Horry | 95.49
| Jasper | 56.25
| Kershaw | 84.06
| Lancaster | 101.56
| Laurens | 85.36
| Lee | 58.40
| Lexington | 121.60
| McCormick | 70.02
| Marion | 66.18
| Marlboro | 50.45
| Newberry | 80.67
| Oconee | 150.03
| Orangeburg | 62.26
| Pickens | 158.39
| Richland | 87.90
| Saluda | 76.78
| Spartanburg | 135.01
| Sumter | 55.09
| Union | 70.93
| Williamsburg | 67.23
| York | 110.15
South Dakota | Aurora | 38.54
| Beadle | 36.73
| Bennett | 10.45
| Bon Homme | 41.32
| Brookings | 60.11
| Brown | 44.56
| Brule | 29.58
| Buffalo | 15.46
| Butte | 13.80
| Campbell | 20.65
| Charles Mix | 35.38
| Clark | 41.07
| Clay | 65.52
| Codington | 44.11
| Corson | 10.59
| Custer | 16.20
| Davison | 48.06
| Day | 34.70
| Deuel | 44.31
| Dewey | 9.89
| Douglas | 41.35
| Edmunds | 28.90
| Fall River | 11.38
| Faulk | 27.32
| Grant | 44.79
| Gregory | 20.51
| Haakon | 11.97
| Hamlin | 52.68
| Hand | 26.17
| Hanson | 55.07
| Harding | 10.25
| Hughes | 23.49
| Hutchinson | 51.61
| Hyde | 17.97
| Jackson | 10.08
| Jerauld | 25.80
| Jones | 11.01
| Kingsbury | 42.73
| Lake | 67.94
| Lawrence | 40.70
| Lincoln | 86.48
| Lyman | 17.63
| McCook | 59.01
| McPherson | 21.13
| Marshall | 32.82
| Meade | 14.17
| Mellette | 10.20
| Miner | 42.48
| Minnehaha | 77.72
| Moody | 70.62
| Pennington | 19.32
| Perkins | 11.55
| Potter | 26.23
| Roberts | 41.41
| Sanborn | 34.65
| Shannon | 6.00
| Spink | 38.68
| Stanley | 11.16
| Sully | 25.44
| Todd | 8.23
| Tripp | 20.51
| Turner | 63.21
| Union | 72.73
| Walworth | 20.42
| Yankton | 55.58
| Ziebach | 8.42
Tennessee | Anderson | 150.12
| Bedford | 103.92
| Benton | 62.81
| Bledsoe | 89.51
| Blount | 156.25
| Bradley | 135.00
| Campbell | 97.60
| Cannon | 90.85
| Carroll | 71.41
| Carter | 113.56
| Cheatham | 115.19
| Chester | 68.60
| Claiborne | 87.34
| Clay | 69.41
| Cocke | 106.06
| Coffee | 98.47
| Crockett | 65.70
| Cumberland | 98.58
| Davidson | 174.77
| Decatur | 59.13
| DeKalb | 89.34
| Dickson | 95.29
| Dyer | 77.31
| Fayette | 90.80
| Fentress | 98.16
| Franklin | 104.88
| Gibson | 71.94
| Giles | 88.92
| Grainger | 106.39
| Greene | 120.00
| Grundy | 91.11
| Hamblen | 107.15
| Hamilton | 152.85
| Hancock | 83.04
| Hardeman | 69.69
| Hardin | 71.63
| Hawkins | 102.24
| Haywood | 68.01
| Henderson | 65.73
| Henry | 76.24
| Hickman | 76.94
| Houston | 67.84
| Humphreys | 72.36
| Jackson | 76.52
| Jefferson | 131.49
| Johnson | 122.78
| Knox | 181.88
| Lake | 77.62
| Lauderdale | 61.35
| Lawrence | 87.14
| Lewis | 80.46
| Lincoln | 96.62
| Loudon | 138.91
| McMinn | 113.08
| McNairy | 62.08
| Macon | 91.87
| Madison | 78.71
| Marion | 101.98
| Marshall | 91.75
| Maury | 106.34
| Meigs | 100.61
| Monroe | 114.91
| Montgomery | 90.99
| Moore | 92.23
| Morgan | 81.19
| Obion | 71.63
| Overton | 91.25
| Perry | 59.46
| Pickett | 97.68
| Polk | 131.10
| Putnam | 116.93
| Rhea | 101.00
| Roane | 119.43
| Robertson | 108.00
| Rutherford | 128.51
| Scott | 88.16
| Sequatchie | 95.13
| Sevier | 155.35
| Shelby | 130.93
| Smith | 88.61
| Stewart | 76.16
| Sullivan | 143.15
| Sumner | 113.67
| Tipton | 66.07
| Trousdale | 90.91
| Unicoi | 203.18
| Union | 102.97
| Van Buren | 80.01
| Warren | 99.26
| Washington | 154.96
| Wayne | 61.88
| Weakley | 71.13
| White | 92.34
| Williamson | 150.82
| Wilson | 115.05
Texas | Anderson | 60.55
| Andrews | 9.22
| Angelina | 75.91
| Aransas | 37.44
| Archer | 26.40
| Armstrong | 23.44
| Atascosa | 44.57
| Austin | 92.56
| Bailey | 24.63
| Bandera | 62.18
| Bastrop | 74.41
| Baylor | 15.92
| Bee | 38.66
| Bell | 64.00
| Bexar | 74.30
| Blanco | 67.96
| Borden | 15.71
| Bosque | 58.54
| Bowie | 50.24
| Brazoria | 59.36
| Brazos | 74.85
| Brewster | 9.31
| Briscoe | 16.79
| Brooks | 28.19
| Brown | 48.97
| Burleson | 61.23
| Burnet | 61.39
| Caldwell | 62.86
| Calhoun | 43.22
| Callahan | 34.51
| Cameron | 52.44
| Camp | 73.87
| Carson | 22.14
| Cass | 58.46
| Castro | 28.05
| Chambers | 39.36
| Cherokee | 63.13
| Childress | 19.34
| Clay | 35.86
| Cochran | 23.68
| Coke | 21.24
| Coleman | 34.91
| Collin | 93.92
| Collingsworth | 23.38
| Colorado | 64.08
| Comal | 81.55
| Comanche | 53.42
| Concho | 27.70
| Cooke | 67.52
| Coryell | 54.37
| Cottle | 17.47
| Crane | 10.36
| Crockett | 11.04
| Crosby | 18.72
| Culberson | 8.19
| Dallam | 22.92
| Dallas | 89.66
| Dawson | 23.09
| Deaf Smith | 24.77
| Delta | 43.79
| Denton | 96.96
| DeWitt | 50.35
| Dickens | 22.38
| Dimmit | 27.32
| Donley | 17.42
| Duval | 27.64
| Eastland | 46.93
| Ector | 10.80
| Edwards | 21.73
| Ellis | 66.33
| El Paso | 39.72
| Erath | 65.19
| Falls | 43.08
| Fannin | 52.60
| Fayette | 74.79
| Fisher | 24.58
| Floyd | 27.37
| Foard | 18.99
| Fort Bend | 62.72
| Franklin | 61.20
| Freestone | 47.31
| Frio | 36.62
| Gaines | 25.80
| Galveston | 66.41
| Garza | 16.66
| Gillespie | 70.59
| Glasscock | 19.99
| Goliad | 44.16
| Gonzales | 57.54
| Gray | 19.78
| Grayson | 82.31
| Gregg | 92.94
| Grimes | 66.22
| Guadalupe | 70.59
| Hale | 31.44
| Hall | 22.63
| Hamilton | 46.42
| Hansford | 21.87
| Hardeman | 22.00
| Hardin | 61.66
| Harris | 91.48
| Harrison | 59.87
| Hartley | 18.34
| Haskell | 24.09
| Hays | 76.64
| Hemphill | 19.75
| Henderson | 66.36
| Hidalgo | 59.17
| Hill | 49.94
| Hockley | 29.00
| Hood | 74.06
| Hopkins | 62.02
| Houston | 55.64
| Howard | 20.83
| Hudspeth | 7.68
| Hunt | 66.90
| Hutchinson | 18.12
| Irion | 16.90
| Jack | 40.37
| Jackson | 37.00
| Jasper | 75.99
| Jeff Davis | 7.57
| Jefferson | 37.74
| Jim Hogg | 17.52
| Jim Wells | 39.63
| Johnson | 92.45
| Jones | 29.76
| Karnes | 46.82
| Kaufman | 70.91
| Kendall | 73.73
| Kenedy | 15.73
| Kent | 16.33
| Kerr | 48.40
| Kimble | 40.48
| King | 10.28
| Kinney | 24.55
| Kleberg | 32.09
| Knox | 23.17
| Lamar | 44.65
| Lamb | 28.13
| Lampasas | 50.40
| La Salle | 30.25
| Lavaca | 57.73
| Lee | 70.40
| Leon | 54.77
| Liberty | 54.23
| Limestone | 42.48
| Lipscomb | 19.72
| Live Oak | 40.45
| Llano | 51.14
| Loving | 3.55
| Lubbock | 32.53
| Lynn | 24.01
| McCulloch | 36.05
| McLennan | 55.94
| McMullen | 28.51
| Madison | 56.94
| Marion | 54.99
| Martin | 17.50
| Mason | 49.70
| Matagorda | 37.44
| Maverick | 24.50
| Medina | 53.50
| Menard | 29.54
| Midland | 23.57
| Milam | 51.92
| Mills | 45.71
| Mitchell | 22.30
| Montague | 55.88
| Montgomery | 102.79
| Moore | 23.28
| Morris | 61.47
| Motley | 16.14
| Nacogdoches | 65.68
| Navarro | 43.73
| Newton | 50.95
| Nolan | 27.86
| Nueces | 35.00
| Ochiltree | 22.03
| Oldham | 8.84
| Orange | 68.74
| Palo Pinto | 52.57
| Panola | 53.88
| Parker | 98.96
| Parmer | 27.64
| Pecos | 7.35
| Polk | 62.31
| Potter | 17.96
| Presidio | 11.29
| Rains | 65.70
| Randall | 31.09
| Reagan | 13.62
| Real | 29.30
| Red River | 36.05
| Reeves | 8.55
| Refugio | 19.86
| Roberts | 18.26
| Robertson | 54.66
| Rockwall | 122.43
| Runnels | 30.57
| Rusk | 55.53
| Sabine | 69.48
| San Augustine | 53.88
| San Jacinto | 71.27
| San Patricio | 33.61
| San Saba | 44.08
| Schleicher | 24.52
| Scurry | 24.33
| Shackelford | 22.76
| Shelby | 76.23
| Sherman | 22.08
| Smith | 85.07
| Somervell | 86.02
| Starr | 33.56
| Stephens | 33.45
| Sterling | 9.96
| Stonewall | 18.15
| Sutton | 21.59
| Swisher | 19.70
| Tarrant | 98.39
| Taylor | 33.53
| Terrell | 6.10
| Terry | 24.01
| Throckmorton | 23.66
| Titus | 55.69
| Tom Green | 29.27
| Travis | 76.83
| Trinity | 52.17
| Tyler | 76.07
| Upshur | 70.10
| Upton | 13.92
| Uvalde | 29.49
| Val Verde | 12.40
| Van Zandt | 82.55
| Victoria | 42.08
| Walker | 66.49
| Waller | 89.60
| Ward | 10.04
| Washington | 100.59
| Webb | 20.26
| Wharton | 47.88
| Wheeler | 18.45
| Wichita | 26.34
| Wilbarger | 20.02
| Willacy | 32.39
| Williamson | 76.39
| Wilson | 64.05
| Winkler | 7.11
| Wise | 85.51
| Wood | 78.62
| Yoakum | 22.95
| Young | 34.13
| Zapata | 24.93
| Zavala | 28.54
Utah | Beaver | 28.38
| Box Elder | 11.19
| Cache | 38.31
| Carbon | 13.06
| Daggett | 19.25
| Davis | 65.56
| Duchesne | 8.06
| Emery | 15.73
| Garfield | 32.09
| Grand | 5.11
| Iron | 19.60
| Juab | 14.34
| Kane | 18.22
| Millard | 14.41
| Morgan | 16.72
| Piute | 34.33
| Rich | 9.87
| Salt Lake | 39.63
| San Juan | 4.40
| Sanpete | 26.79
| Sevier | 24.19
| Summit | 17.56
| Tooele | 20.00
| Uintah | 6.50
| Utah | 52.16
| Wasatch | 58.50
| Washington | 38.02
| Wayne | 33.32
| Weber | 60.40
Vermont | Addison | 73.18
| Bennington | 102.77
| Caledonia | 73.54
| Chittenden | 105.87
| Essex | 43.44
| Franklin | 69.39
| Grand Isle | 100.43
| Lamoille | 87.00
| Orange | 82.51
| Orleans | 64.43
| Rutland | 69.64
| Washington | 96.36
| Windham | 103.36
| Windsor | 111.86
Virginia | Accomack | 84.94
| Albemarle | 163.39
| Alleghany | 79.77
| Amelia | 100.57
| Amherst | 85.97
| Appomattox | 78.37
| Arlington | 118.25
| Augusta | 137.45
| Bath | 104.47
| Bedford | 132.68
| Bland | 82.61
| Botetourt | 119.15
| Brunswick | 70.03
| Buchanan | 118.25
| Buckingham | 86.45
| Campbell | 94.14
| Caroline | 130.86
| Carroll | 115.28
| Charles City | 101.19
| Charlotte | 74.89
| Chesterfield | 158.17
| Clarke | 191.62
| Craig | 99.67
| Culpeper | 166.56
| Cumberland | 109.55
| Dickenson | 89.59
| Dinwiddie | 89.34
| Essex | 91.03
| Fairfax | 360.43
| Fauquier | 162.24
| Floyd | 116.65
| Fluvanna | 139.64
| Franklin | 116.96
| Frederick | 164.09
| Giles | 87.83
| Gloucester | 157.83
| Goochland | 148.54
| Grayson | 129.51
| Greene | 183.96
| Greensville | 77.75
| Halifax | 77.75
| Hanover | 159.06
| Henrico | 152.24
| Henry | 87.71
| Highland | 85.19
| Isle of Wight | 88.78
| James City | 235.69
| King and Queen | 101.47
| King George | 117.80
| King William | 107.95
| Lancaster | 119.07
| Lee | 76.94
| Loudoun | 207.34
| Louisa | 137.56
| Lunenburg | 82.58
| Madison | 162.18
| Mathews | 160.13
| Mecklenburg | 88.81
| Middlesex | 141.27
| Montgomery | 115.87
| Nelson | 131.50
| New Kent | 149.83
| Northampton | 110.53
| Northumberland | 106.55
| Nottoway | 98.13
| Orange | 155.67
| Page | 172.79
| Patrick | 97.45
| Pittsylvania | 88.61
| Powhatan | 180.42
| Prince Edward | 86.40
| Prince George | 105.59
| Prince William | 205.91
| Pulaski | 102.37
| Rappahannock | 174.39
| Richmond | 103.32
| Roanoke | 142.03
| Rockbridge | 122.18
| Rockingham | 172.62
| Russell | 79.46
| Scott | 82.77
| Shenandoah | 151.43
| Smyth | 92.85
| Southampton | 72.73
| Spotsylvania | 142.50
| Stafford | 247.76
| Surry | 92.71
| Sussex | 88.72
| Tazewell | 64.14
| Warren | 178.29
| Washington | 123.33
| Westmoreland | 101.05
| Wise | 78.31
| Wythe | 110.25
| York | 496.36
| Chesapeake City | 151.06
| Suffolk | 127.82
| Virginia Beach City | 174.78
Washington | Adams | 18.65
| Asotin | 15.13
| Benton | 42.30
| Chelan | 132.56
| Clallam | 190.99
| Clark | 240.90
| Columbia | 18.17
| Cowlitz | 138.60
| Douglas | 20.08
| Ferry | 8.03
| Franklin | 39.35
| Garfield | 14.73
| Grant | 45.43
| Grays Harbor | 48.74
| Island | 223.88
| Jefferson | 132.85
| King | 323.90
| Kitsap | 339.92
| Kittitas | 71.16
| Klickitat | 22.69
| Lewis | 107.67
| Lincoln | 18.14
| Mason | 149.73
| Okanogan | 22.09
| Pacific | 60.38
| Pend Oreille | 55.03
| Pierce | 268.54
| San Juan | 158.25
| Skagit | 122.84
| Skamania | 160.46
| Snohomish | 196.89
| Spokane | 42.81
| Stevens | 25.38
| Thurston | 155.76
| Wahkiakum | 72.58
| Walla Walla | 31.39
| Whatcom | 203.68
| Whitman | 20.32
| Yakima | 27.86
West Virginia | Barbour | 46.46
| Berkeley | 189.39
| Boone | 43.66
| Braxton | 45.58
| Brooke | 46.37
| Cabell | 71.37
| Calhoun | 43.77
| Clay | 46.91
| Doddridge | 41.59
| Fayette | 57.94
| Gilmer | 41.31
| Grant | 65.80
| Greenbrier | 68.23
| Hampshire | 135.10
| Hancock | 77.31
| Hardy | 86.21
| Harrison | 58.87
| Jackson | 55.87
| Jefferson | 192.02
| Kanawha | 77.17
| Lewis | 47.93
| Lincoln | 41.93
| Logan | 80.28
| McDowell | 62.83
| Marion | 59.97
| Marshall | 52.82
| Mason | 62.97
| Mercer | 62.29
| Mineral | 78.38
| Mingo | 27.88
| Monongalia | 77.99
| Monroe | 64.87
| Morgan | 122.58
| Nicholas | 57.20
| Ohio | 59.92
| Pendleton | 60.14
| Pleasants | 58.98
| Pocahontas | 57.37
| Preston | 67.61
| Putnam | 67.41
| Raleigh | 64.98
| Randolph | 56.55
| Ritchie | 47.31
| Roane | 49.00
| Summers | 56.69
| Taylor | 62.09
| Tucker | 54.57
| Tyler | 53.16
| Upshur | 60.14
| Wayne | 51.24
| Webster | 55.76
| Wetzel | 43.57
| Wirt | 45.84
| Wood | 64.58
| Wyoming | 38.48
Wisconsin | Adams | 87.69
| Ashland | 59.32
| Barron | 68.57
| Bayfield | 60.07
| Brown | 108.56
| Buffalo | 71.08
| Burnett | 70.86
| Calumet | 105.77
| Chippewa | 68.90
| Clark | 69.23
| Columbia | 103.69
| Crawford | 71.86
| Dane | 119.86
| Dodge | 101.51
| Door | 93.28
| Douglas | 56.83
| Dunn | 77.51
| Eau Claire | 77.45
| Florence | 65.41
| Fond du Lac | 97.77
| Forest | 53.29
| Grant | 87.17
| Green | 98.85
| Green Lake | 96.27
| Iowa | 91.13
| Iron | 52.59
| Jackson | 71.61
| Jefferson | 111.89
| Juneau | 79.19
| Kenosha | 140.87
| Kewaunee | 96.72
| La Crosse | 80.19
| Lafayette | 97.41
| Langlade | 70.72
| Lincoln | 70.72
| Manitowoc | 96.69
| Marathon | 75.68
| Marinette | 74.49
| Marquette | 84.92
| Menominee | 32.50
| Milwaukee | 199.63
| Monroe | 82.16
| Oconto | 82.43
| Oneida | 78.81
| Outagamie | 102.36
| Ozaukee | 132.45
| Pepin | 75.65
| Pierce | 92.48
| Polk | 79.86
| Portage | 95.22
| Price | 53.92
| Racine | 132.37
| Richland | 77.98
| Rock | 111.50
| Rusk | 64.25
| St. Croix | 105.52
| Sauk | 93.92
| Sawyer | 82.38
| Shawano | 85.26
| Sheboygan | 107.10
| Taylor | 64.33
| Trempealeau | 72.36
| Vernon | 82.13
| Vilas | 137.66
| Walworth | 119.94
| Washburn | 75.57
| Washington | 140.95
| Waukesha | 151.80
| Waupaca | 89.41
| Waushara | 97.77
| Winnebago | 95.17
| Wood | 83.24
Wyoming | Albany | 7.60
| Big Horn | 14.15
| Campbell | 6.29
| Carbon | 5.07
| Converse | 5.55
| Crook | 9.65
| Fremont | 14.78
| Goshen | 9.63
| Hot Springs | 11.84
| Johnson | 6.23
| Laramie | 7.82
| Lincoln | 18.50
| Natrona | 5.39
| Niobrara | 6.08
| Park | 13.39
| Platte | 9.87
| Sheridan | 12.68
| Sublette | 16.34
| Sweetwater | 2.89
| Teton | 29.44
| Uinta | 9.49
| Washakie | 9.20
| Weston | 7.15

[FR Doc. 2014-00849 Filed 1-16-14; 8:45 am]

BILLING CODE 6717-01-P